DEPARTMENT OF ENERGY

Federal Energy Regulatory Commission

Combined Notice of Filings # 1

October 29, 2007.

Take notice that the Commission received the following electric corporate filings:

Docket Numbers: EC07-136-001.

Applicants: NRG Energy, Inc.

Description: Long Beach Generation, LLC, et al. submits the organizational charts that were excluded from the September 27, 2007 Application along with an updated notarized verification of J. Andrew Murphy.

Filed Date: 10/25/2007.

Accession Number: 20071029-0063.

Comment Date: 5 p.m. Eastern Time on Tuesday, November 6, 2007.

Take notice that the Commission received the following electric rate filings:

Docket Numbers: ER98-830-015; ER03-720-006; ER03-719-006; ER03-721-006.

Applicants: Millenium Power Partners, LLC; New Athens Generating Company, LLC; New Harquahala Generating Company, LLC; New Covert Generating Company, LLC.

Description: New Athens Generating Company, LLC, et al. submits Notice of Non-material Change in Status and First Revised Sheet 1 et al. to FERC Electric Tariff, Second Revised Volume 1 in compliance with Order 697.

Filed Date: 10/25/2007.

Accession Number: 20071029-0069.

Comment Date: 5 p.m. Eastern Time on Thursday, November 15, 2007.

Docket Numbers: ER99-1435-015.

Applicants: Avista Corporation.

Description: Avista Corporation submits Original Sheet 1 et al. to its FERC Electric Tariff, Seventh Revised Volume 9.

Filed Date: 10/24/2007.

Accession Number: 20071029-0074.

Comment Date: 5 p.m. Eastern Time on Wednesday, November 14, 2007.

Docket Numbers: ER99-3077-005.

Applicants: Colorado Power Partners.

Description: Colorado Power Partners submits Second Substitute Original Sheet 1—2 to its FERC Electric Tariff, First Revised Volume 1 etc.

Filed Date: 10/22/2007.

Accession Number: 20071023-0020.

Comment Date: 5 p.m. Eastern Time on Tuesday, November 13, 2007.

Docket Numbers: ER99-3197-005.

Applicants: BIV Generation Company, LLC.

Description: BIV Generation Company, LLC submits Substitute Original Sheet 1 et al. to its revised tariff to delete provisions.

Filed Date: 10/22/2007.

Accession Number: 20071023-0022.

Comment Date: 5 p.m. Eastern Time on Tuesday, November 13, 2007.

Docket Numbers: ER01-751-009.

Applicants: Mountain View Power Partners, LLC.

Description: Mountain View Power Partners, LLC submits Second Substitute Original Sheet 1-3 to its FERC Electric Tariff, First Revised Volume 1 in accordance with FERC 9/21/07 request and Order 697.

Filed Date: 10/22/2007.

Accession Number: 20071023-0021.

Comment Date: 5 p.m. Eastern Time on Tuesday, November 13, 2007.

Docket Numbers: ER02-1470-003; ER02-1573-003; ER05-1249-003; ER96-2585-005; ER98-6-010; ER99-2387-003.

Applicants: KeySpan-Glenwood Energy Center, LLC; KeySpan-Port Jefferson Energy Center, LLC; Niagara Mohawk Power Corporation; New England Power Company; KeySpan Ravenwood, Inc.; The Narragansett Electric Company; Granite State Electric Company; Massachusetts Electric Company.

Description: Niagara Mohawk Power Corporation et al. submit a supplement to the Notice of Change in Status to reflect the impact of the recently consummated merger with KeySpan Corp. etc.

Filed Date: 10/19/2007.

Accession Number: 20071023-0023.

Comment Date: 5 p.m. Eastern Time on Friday, November 9, 2007.

Docket Numbers: ER03-774-005.

Applicants: Eagle Energy Partners I, LP.

Description: Eagle Energy Partners I, LP submits Notice of Change in Status as a result from closing of the merger transaction with Texas Energy Future Holdings, LP.

Filed Date: 10/24/2007.

Accession Number: 20071029-0070.

Comment Date: 5 p.m. Eastern Time on Wednesday, November 14, 2007.

Docket Numbers: ER05-1420-004.

Applicants: Lehman Brothers Commodity Services, Inc.

Description: Lehman Brothers Commodity Services, Inc. submits Notice of Non-Material Change in Status.

Filed Date: 10/24/2007.

Accession Number: 20071029-0072.

Comment Date: 5 p.m. Eastern Time on Wednesday, November 14, 2007.

Docket Numbers: ER06-1346-003.

Applicants: White Creek Wind I, LLC.

Description: White Creek Wind LLC submits a revised Second Revised Sheet 1 of its FERC Electric Tariff, Original Volume 1 to replace First Revised Sheet 1 and First Revised Sheet 2 in the 10/1/07 filing.

Filed Date: 10/24/2007.

Accession Number: 20071026-0051.

Comment Date: 5 p.m. Eastern Time on Wednesday, November 14, 2007.

Docket Numbers: ER07-870-002.

Applicants: Oncor Electric Delivery Company.

Description: Oncor Electric Delivery Company submits an amendment to its 7/5/07 filing of a Notice of Succession.

Filed Date: 10/24/2007.

Accession Number: 20071026-0052.

Comment Date: 5 p.m. Eastern Time on Wednesday, November 14, 2007.

Docket Numbers: ER07-1251-002.

Applicants: Northern Maine Independent System Administrator.

Description: Northern Maine Independent System Administrator submits revision to the Northern Maine Market Rules to clarify the definition of “Firm Energy” therein in compliance with FERC's 10/19/07 Order.

Filed Date: 10/25/2007.

Accession Number: 20071026-0054.

Comment Date: 5 p.m. Eastern Time on Thursday, November 15, 2007.

Docket Numbers: ER07-1303-002.

Applicants: PS Energy Group, Inc.

Description: PS Energy Group, Inc. submits an amendment to its 8/23/07 filing of a Petition for Acceptance of Initial Rate Tariff.

Filed Date: 10/24/2007.

Accession Number: 20071026-0053.

Comment Date: 5 p.m. Eastern Time on Monday, November 5, 2007.

Docket Numbers: ER08-19-001.

Applicants: Energy Algorithms, LLC.

Description: Amendment to the application of Energy Algorithms, LLC for Order Accepting Market-Based Rate Tariff etc.

Filed Date: 10/25/2007.

Accession Number: 20071029-0073.

Comment Date: 5 p.m. Eastern Time on Thursday, November 15, 2007.

Docket Numbers: ER08-25-001; ER08-26-001.

Applicants: Ocean State Power; Ocean State Power II.

Description: Ocean State Power and Ocean State Power II submit revised tariff sheets to accompany the 10/4/07 application.

Filed Date: 10/22/2007.

Accession Number: 20071024-0020.

Comment Date: 5 p.m. Eastern Time on Tuesday, November 13, 2007.

Docket Numbers: ER08-83-000.

Applicants: Gilberton Power Company.

Description: Gilberton Power Company's application for market-based rate authority, request for waivers and pre-approvals, and request for finding of qualification as Category 1 Seller.

Filed Date: 10/23/2007.

Accession Number: 20071025-0030.

Comment Date: 5 p.m. Eastern Time on Tuesday, November 13, 2007.

Docket Numbers: ER08-84-000.

Applicants: Duke Energy Carolinas, LLC.

Description: Duke Energy Carolinas, LLC submits its 8/30/07 Confirmation with North Carolina Electric Membership Corporation.

Filed Date: 10/23/2007.

Accession Number: 20071025-0029.

Comment Date: 5 p.m. Eastern Time on Tuesday, November 13, 2007.

Docket Numbers: ER08-85-000.

Applicants: American Electric Power Service Corporation.

Description: American Electric Power Service Corporation agent for AEP Texas North Company submits an executed amendment to the Interconnection Agreement with Texas-New Mexico Power Company.

Filed Date: 10/24/2007.

Accession Number: 20071025-0028.

Comment Date: 5 p.m. Eastern Time on Wednesday, November 14, 2007.

Docket Numbers: ER08-86-000.

Applicants: California Power Exchange Corporation .

Description: The California Power Exchange Corp submits proposed amendments to its Rate Schedule 1 in order to recover projected expenses for the period 1/1/08—6/30/08.

Filed Date: 10/24/2007.

Accession Number: 20071025-0027.

Comment Date: 5 p.m. Eastern Time on Wednesday, November 14, 2007.

Docket Numbers: ER08-87-000.

Applicants: Metropolitan Edison Company

Description: Metropolitan Edison Company submits a Construction and Reimbursement Agreement with MetEd, Texas Eastern Transmission LP et al., etc.

Filed Date: 10/24/2007.

Accession Number: 20071026-0050.

Comment Date: 5 p.m. Eastern Time on Wednesday, November 14, 2007.

Docket Numbers: ER08-88-000.

Applicants: Old Dominion Electric Cooperative, Inc.

Description: Old Dominion Electric Cooperative submits an Interconnection Agreement with A&N Electric Cooperative and Old Dominion, to become effective 11/1/07.

Filed Date: 10/24/2007.

Accession Number: 20071026-0049.

Comment Date: 5 p.m. Eastern Time on Wednesday, November 14, 2007.

Docket Numbers: ER08-89-000.

Applicants: Duke Energy Carolinas, LLC.

Description: Duke Energy Carolina LLC submits its Second Revised Rate Schedule 316, the Full Requirements Power Purchase Agreement with Piedmont Electric Membership Corporation, dated as 10/22/07.

Filed Date: 10/24/2007.

Accession Number: 20071026-0118.

Comment Date: 5 p.m. Eastern Time on Wednesday, November 14, 2007.

Docket Numbers: ER08-90-000.

Applicants: Southwest Power Pool, Inc.

Description: Southwest Power Pool Inc submits an executed Amended and Restated Interconnection Agreement with Public Service Company of Oklahoma et al designated as First Revised Service Agreement 1160.

Filed Date: 10/25/2007.

Accession Number: 20071029-0066.

Comment Date: 5 p.m. Eastern Time on Thursday, November 15, 2007.

Docket Numbers: ER08-91-000.

Applicants: Mississippi Power Company.

Description: Mississippi Power Company submits materials in support of a request for authorization to use its updated depreciation rates in the calculation of charges for services provided etc.

Filed Date: 10/25/2007.

Accession Number: 20071029-0067.

Comment Date: 5 p.m. Eastern Time on Thursday, November 15, 2007.

Take notice that the Commission received the following electric securities filings:

Docket Numbers: ES07-34-000.

Applicants: System Energy Resources, Inc.

Description: System Energy Resources, Inc submits reports required under Sections 131.43 and 131.50 of the Commission regulations.

Filed Date: 10/25/2007.

Accession Number: 20071026-0174.

Comment Date: 5 p.m. Eastern Time on Thursday, November 15, 2007.

Take notice that the Commission received the following open access transmission tariff filings:

Docket Numbers: OA08-16-000.

Applicants: Northern Indiana Public Service Company.

Description: Order No. 890 OATT of Northern Indiana Public Service Company.

Filed Date: 10/26/2007.

Accession Number: 20071026-5021.

Comment Date: 5 p.m. Eastern Time on Friday, November 16, 2007.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Nathaniel J. Davis, Jr.,
Acting Deputy Secretary.

[FR Doc. E7-21650 Filed 11-2-07; 8:45 am]

BILLING CODE 6717-01-P